DEPARTMENT OF HOUSING AND URBAN DEVELOPMENT

[Docket No. FR-5382-N-15]

Notice of Proposed Information Collection for Public Comment on the Follow-Up Survey and Data Collection Guide for the Evaluation of the Rapid Re-Housing for Homeless Families Demonstration Program

AGENCY: Office of Policy Development and Research, HUD.

ACTION: Notice of proposed information collection.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: December 13, 2010.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 20410.

FOR FURTHER INFORMATION CONTACT: Anne Fletcher at (202) 402-4347 (this is not a toll-free number). Copies of the proposed forms and other available documents submitted to OMB may be obtained from Ms. Fletcher.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

Title of Proposal: Evaluation of the Rapid Re-housing for Homeless Families Demonstration Program.

OMB Control Number: XXXX—pending.

Description of the need for the information and proposed use: The Participation Agreement (for the collection of informed consent and contact information), the 6-month Tracking Letter, and the Participant Follow-up Survey Instruments are all necessary to conduct the evaluation of the Rapid Re-Housing for Families Demonstration Program.

The FY 2008 budget for the U.S. Department of Housing and Urban Development (H.R. 2764) included a $25 million set-aside to implement a Rapid Re-housing for Families Demonstration (RRHD) Program “expressly for the purposes of providing housing and services to homeless families.” Also included in the legislation was a requirement that there be an evaluation of the demonstration program “in order to evaluate the effectiveness of the rapid re-housing approach in addressing the needs of homeless families.” These instruments establish the research foundation on which the Department can meet that direction. They will permit the research team to identify a cohort of RRHD program participants and to track and measure the outcomes of participants 12 months after program completion.

Members of affected public: Households.

Estimation of the total number of hours needed to prepare the information collection including number of respondents, frequency of response, and hours of response:

Estimated Respondent Burden Hours and Costs
Form | Respondent sample | Number of respondents | Average time to complete (minimum, maximum) in minutes | Frequency | Total burden (hours)
Contact Information | All enrolled families (N=1,200) | 1,200 | 5 (3-7) | 1 | 100
Tracking Information | All enrolled families (N=1,200) | 1,200 | 2 (1-3) | 1 | 40
Follow-up Survey | All enrolled families (N=1,200) | 1,200 | 25 (20-30) | 1 | 500
Total Burden Hours |  |  |  |  | 640

Respondent's obligation: Voluntary.

Status of the proposed information collection: Pending OMB approval.

Authority: Title 13 U.S.C. Section 9(a), and Title 12, U.S.C., Section 1701z-1 et seq.

Dated: October 8, 2010.
Raphael W. Bostic,
Assistant Secretary for Policy Development and Research.

[FR Doc. 2010-25903 Filed 10-13-10; 8:45 am]

BILLING CODE 4210-67-P